DEPARTMENT OF THE INTERIOR

Fish and Wildlife Service

Notice of Intent To Prepare a Comprehensive Conservation and Wilderness Management Plan and Associated Environmental Impact Statement

AGENCY: Fish and Wildlife Service, Interior.

ACTION: Notice of intent to prepare a comprehensive conservation and wilderness management plan and associated environmental impact statement.

SUMMARY: This notice advises the public that the U.S. Fish and Wildlife Service (Service) is preparing a Comprehensive Conservation and Wilderness Management Plan (CCP) and associated Environmental Impact Statement (EIS) for Cabeza Prieta National Wildlife Refuge (NWR), Pima and Yuma Counties, Arizona. Following the release of the second Draft CCP and associated Environmental Assessment (EA) and Finding of No Significant Impact (FONSI), in September 1998, the Regional Director determined that an EIS would be necessary due to the national significance of wilderness resources on the Cabeza Prieta NWR, and thus, the potential for significant impacts of proposed management actions on the resources. Therefore, the EA and FONSI associated with the draft CCP is hereby rescinded.

The Service is furnishing this notice in compliance with Service CCP policy and the National Environmental Policy Act (NEPA) and implementing regulations. This notice describes the proposed plan and possible alternatives, invites public participation in the scoping process for preparing the CCP and EIS, and identifies the Service official to whom questions and comments concerning the proposed action may be directed. Three open houses, for the purpose of public scoping, will be held from 4 pm to 8 pm on the following dates at the indicated locations.

1. Tuesday, June 6, 2000; Yuma, AZ at the Shilo Inn, 1550 S. Castle Dome.

2. Wednesday, June 7, 2000; Ajo, AZ at the Ajo Community Center at Bud Walker Park, 2090 E. 5th St.

3. Thursday, June 8, 2000; Tucson, AZ at the Holiday Inn Palo Verde, 4550 S. Palo Verde Rd.

The public is invited to drop by anytime from 4 pm to 7 pm to view materials, discuss issues and alternatives, and submit written and oral comments and questions. The purpose of this scoping is to verify if issues identified during the CCP/EA phase are still applicable, determine if there are any new major issues, and to receive comments on the range of proposed alternatives.

FOR FURTHER INFORMATION CONTACT: Don Tiller, Refuge Manager 520-387-6483 or Thea Ulen, Planner/CCP Project Manager 520-743-2090.

All comments received from individuals on Environmental Assessments and Environmental Impact Statements become part of the official public record. Requests for such comments will be handled in accordance with the Freedom of Information Act, the Council on Environmental Quality's NEPA regulations (40 CFR 1506.6(f)), and other Service and Departmental policy and procedures.

If you wish to comment, you may submit your comments by any one of several methods by May 15, 2000. You may mail comments to CCP Project Coordinator, 1611 N. 2nd St., Ajo, AZ 85321. You may also comment via the Internet to R2RW_CP@fws.gov. Please submit Internet comments as an ASCII file avoiding the use of special characters and any form of encryption. Please also include: “Attn: Cabeza Prieta CCP” and your name and return address in your Internet message. If you do not receive confirmation from the system that we have received your Internet message, contact us directly at Cabeza Prieta NWR , Don Tiller, 520-387-6483. Our practice is to make comments, including names and home addresses of respondents, available for public review during regular business hours. Individual respondents may request that we withhold their home address from the rulemaking record, which we will honor to the extent allowable by law. There also may be circumstances in which we would withhold from the rulemaking record a respondent's identity, as allowable by law. If you wish us to withhold your name and/or address, you must state this prominently at the beginning of your comment. However, we will not consider anonymous comments. We will make all submissions from organizations or businesses, and from individuals, identifying themselves as representatives or officials of organizations or businesses, available for public inspection in their entirety.

Planning Updates

A link to Planning Updates will be posted on the refuge website (www://southwest.fws.gov/refuges/arizona/cabeza.html) beginning mid-April, 2000, or mailed to those on the mailing list.

Address requests to be placed on the mailing list to: Planning Branch, U.S. Fish and Wildlife Service, P.O. Box 1306, Albuquerque, NM 87103. Be sure to indicate the Cabeza Prieta NWR list on your request.

SUPPLEMENTARY INFORMATION: The Service started the process of developing a Comprehensive Management Plan for Cabeza Prieta National Wildlife NWR in 1994 with three open houses and public meetings held in Yuma, Ajo, and Tucson. A focus group was assembled in February of 1995 to provide further assistance to the Service in developing possible alternatives. Day-long workshops open to the public were held in August of 1995 to refine detailed management suggestions. The Draft CCP and Environmental Assessment was released in August of 1997 and a second draft CCP and final EA was released in September of 1998. During preparation of the final CCP, the Service determined that substantial changes were needed to comply with legal responsibilities under the Wilderness Act of 1964 and Arizona Desert Wilderness Act of 1990. In January of 2000, the Regional Director determined to engage the development of an EIS for the CCP for Cabeza Prieta NWR because of the national significance of the refuge resources and wilderness.

Persons and organizations involved in the scoping process include: the U.S. Department of Interior, National Park Service and Bureau of Land Management; U.S. Department of Defense, Luke Air Force Base and Barry M. Goldwater Bombing Range (BMGR); Arizona Game and Fish Department (AGFD); leaders and members of the Tohono O'odham and Hia C-ed O'odham Nations; members of the Ajo Chamber of Commerce; members of the International Sonoran Desert Alliance; scientific experts from universities, members of national, state and local conservation organizations; neighboring landowners; and other interested citizens. Comments and concerns received during the EA phase of developing the CCP have been used to identify issues and alternatives.

Cabeza Prieta NWR was established by Executive Order in 1939 as the Cabeza Prieta Game Range “for the conservation and development of natural wildlife resources, and for the protection and improvement of public grazing lands and natural forage resources * * * provided, however that all the forage resources in excess of that required to maintain a balanced wildlife population within this range or preserve shall be available * * *” Its primary purpose was to assist in the recovery of desert bighorn sheep. The Range's grazing resources were jointly administered with the Bureau of Land Management. In 1975, the name was changed to Cabeza Prieta National Wildlife Refuge and the U.S. Fish and Wildlife Service was given sole jurisdiction. Grazing was determined to conflict with the refuge's primary purpose of wildlife conservation and was phased out in the 1970s. A majority of the refuge has been included in a military withdrawal for flight training since World War II. Over the years, refuge responsibilities have expanded through additional legislation directly affecting the refuge such as the Endangered Species Act of 1973 and the Arizona Desert Wilderness Act of 1990, and through regulations and laws that affect the National Wildlife Refuge System. Cabeza Prieta provides important habitat for the last remaining herd of Sonoran pronghorn antelope in the U.S. and is the largest refuge wilderness outside of Alaska.

Refuge Goals

The following four proposed refuge goals for management are consistent with the Refuge purpose, Ecoregion goals, the National Wildlife Refuge System (Refuge System) mission and goals, the National Wildlife Refuge System Improvement Act of 1997, Service policy, the Wilderness Act of 1964, and the Arizona Desert Wilderness Act of 1990. Following each goal is a list of guiding management principles as developed from the Service's vision document Fulfilling the Promise.

(1) Wildlife and Habitat: Protect, maintain, enhance, and restore the diversity and abundance of wildlife species and ecological communities of the Sonoran desert represented on the wilderness and non-wilderness land of the Cabeza Prieta NWR.

• Wildlife comes first.

• Healthy habitats are key to healthy wildlife populations.

• The refuge must balance its responsibility for trust species and biodiversity to meet Refuge System and ecosystem goals.

• Management should mimic, where possible, natural processes.

• Refuges need baseline data in order to evaluate management options and prioritize activities.

(2) Wilderness Management: Keep wildlife and plant resources wild, and their condition altered as little as possible by human influences, reduce the “imprint of man” on wilderness resources, and permit compatible wildlife-dependent recreation.

• Wilderness is a reservoir of biodiversity and natural evolutionary processes.

• The use of restraint is central to wilderness management-limiting mechanical use to that which is necessary to manage these areas as wilderness.

• Wilderness is a valued remnant of our American cultural heritage symbolizing national and natural values.

• Wilderness provides outstanding opportunities for solitude or primitive and unconfined type of recreation leading to feelings of renewal, inspiration, and awe.

(3) Visitor Services Management: provide visitors with compatible, high quality, enjoyable wildlife-dependent recreational experiences that result in a better appreciation, understanding, and protection of plant, animal, and wilderness resources.

• Compatible wildlife-dependent recreation and education are appropriate public uses.

• Visitors find national wildlife refuges welcoming, safe, and accessible with a variety of opportunities to enjoy and appreciate America's legacy of wildlife.

• The heritage and future of the System is intertwined with the will of concerned citizens.

(4) Cultural Resource Management: Protect, maintain, and plan for cultural and historic resources on the Cabeza Prieta NWR, in cooperation with the Tohono O'odham Nation, Hia C-ed O'odham leaders, Yuman and other Native American interests, and the State Historic Preservation Officer for the benefit of present and future generations.

Alternatives Being Considered

The following proposed alternatives are being considered including a no change from present management (no action) alternative. In the CCP and EIS, all alternatives will consider objectives and strategies to accomplish refuge goals, address issues identified in scoping, and the environmental effects will be discussed and compared.

I. No Change From Present Management (No Action)

The No Change or status quo alternative is a required element in CCP planning. Like many refuges, Cabeza Prieta NWR is operating without an approved management plan. Taking no action would imply that the Refuge Goal Statements would not be adopted. Refuge management would continue to be based on general purposes of the refuge, Service's policy, and goal statements identified in 1986 during a nationwide refuge Planning Needs Assessment.

No changes would be made to the biological program which includes aerial surveys and monitoring for bighorn sheep and pronghorn and maintaining water developments for both species. Radio telemetry studies for pronghorn would continue and requests for research from universities and other agencies would be granted if the Refuge Manager deems them worthy. Vehicular travel on administrative roads for research, law enforcement, and maintenance purposes would remain at the current level of approximately 700 miles per year. The bulk of those trips are to monitor and fill wildlife water developments (artificial waterholes, ponds, and guzzlers). Existing water developments would remain and would be repaired as necessary utilizing minimum tool. Biological monitoring would include studies already underway at the 1998 levels and in the same manner: 3 bird surveys, remote photo surveys of waterholes, and rainfall gauge monitoring. There would be no population or habitat goal for bighorn sheep and no new pronghorn projects would be started.

The abandoned administrative roads would not be rehabilitated and all 159 miles of administrative roads in existence would remain. Wilderness character would be diminished by remaining structures and considerable administrative traffic.

Public use activities would remain the same with a permit required for entry and 4WD required for all access roads which are limited to El Camino del Diablo, the Christmas Pass (Tacna Road), and Charlie Bell Road. The permit would be available only at refuge headquarters which would operate on weekdays only. Bighorn sheep hunting would continue in cooperation with AGFD with permit levels established according to tri-annual survey results.

Visitor services would be limited to existing exhibits and the visitor center would not be staffed weekends. Without the 30 acres adjacent to the Visitor Center, only a very short nature trail could be developed there. There would be limited opportunity for visitors without a 4WD vehicle to experience the refuge. Educational efforts would continue with area schools and programs presented by the Cabeza Prieta Natural History Association. Tours would be provided to the summit of Childs Mountain by special arrangement. Backpacking, hiking, horseback riding, camping and campfires would continue under restrictions currently in place.

There would be no change in procedures for cultural resource protection and no surveys begun unless the resource was in imminent danger. Law enforcement would be limited to a collateral duty for 3 staff who have other primary job responsibilities. Most infractions will go undetected and there would be rare coverage on weekends.

II. Wilderness Management Balanced With Active Non-Wilderness Management

The refuge will maintain its wilderness character while providing for management of healthy ecosystems. Needed management actions will undergo a more rigorous minimum tool assessment and contribute to the greater understanding of the ecosystem. The refuge will continue working towards understanding population dynamics for desert bighorn sheep and Sonoran pronghorn and contribute to their protection and recovery within their historic range. The Sonoran Pronghorn Recovery Plan will be updated to include the herd in Mexico. The refuge could participate in a limited forage enhancement project in non-wilderness if the pilot project off refuge lands is successful and contributes to recovery and an EA or EIS proves favorable. Regional planning would be accomplished through existing cooperative organizations with greater emphasis on ecosystem/biosphere coordination. More emphasis will be placed on monitoring key species and developing baseline biological data to help understand and manage a healthy system. Water management will be made more natural and the refuge will understand the impact of artificial waters in desert ecosystems. Water hauling will stop except in emergencies and the results will be monitored. Non-essential guzzlers will be removed and charcos (man-made ponds) will not be cleared. Well sited water developments will continue to be maintained using minimum tool during this time frame while the role of water developments is being evaluated. Vehicular use in wilderness will be reduced to minimum levels necessary to maintain wilderness character by using stock animals and remote sensors for monitoring, elimination of unnecessary facilities and water hauling, and stringent application of minimum tool analysis. Over 140 miles of abandoned roads will be eliminated and their trailheads rehabilitated and the administrative road system will be reduced by 47 miles.

Public access would continue to require permits but the refuge will work to simplify the system while still ensuring the ability to provide accurate information and obtain visitation data. Interpretive activities and opportunities will be increased with improved exhibits and signs and purchase or lease of 30 acres adjoining the Visitor Center and development of a nature trail there. The visitor center will be staffed weekends through the winter season. The refuge will explore the possibility of opening a tour loop in non-wilderness that will help reduce two-way traffic if there is not a significant impact to wildlife or cultural resources. The bighorn sheep hunt will remain a unique wilderness experience for hardy individuals. Additional law enforcement will increase wilderness compliance and cultural resource protection. The refuge will work with border law enforcement agencies to aggressively deter illegal undocumented alien traffic currently damaging resources.

III. Increase Active Wildlife Management and Recreational Opportunities

Under this alternative, the refuge would maximize wildlife production through active management and increase public use opportunities. Water developments would continue to be viewed as essential elements in bighorn sheep and pronghorn management. While no new water developments would occur in wilderness, they could be developed in non-wilderness, and wilderness waters would not be permitted to go dry. Modifications to existing structures would reduce evaporation, improve storage capacity, and make them appear more natural. This alternative would call for increased use of remote sensing devices and reduce wilderness vehicular trips by using horses. The pronghorn charcos would be cleared of vegetation in hopes of attracting pronghorn use. Artificial water and forage proposals would be considered for non-wilderness and the refuge would participate with the Recovery Team to find ways of expanding pronghorn habitat and exchange among existing herds. Radio collaring and aerial surveys would be considered important tools used to assess the population and habitat needs for pronghorn. The refuge would remove all military training debris on an aggressive schedule and closely monitor crash site cleanup to minimize habitat impacts.

The refuge would increase its monitoring effort to obtain baseline data for key resources. This would more than likely result in several monitoring sites that would not be within summer walking distance without extraordinary effort. Invasive species would be controlled through the use of herbicides using minimum tool methods. All administrative roads would remain for essential research, management, and law enforcement, but those needs would be more broadly defined than in Alternative 2. The refuge would work within existing coordinating committees to develop regional plans for natural resource protection.

This alternative would impose permit levels immediately at designated campsites to reduce impacts. El Camino del Diablo would remain 4WD only, but Copper Canyon would be opened to provide a tour loop from Ajo. The refuge would work with the Ajo Chamber of Commerce to promote ecotourism for the area. The permit system would be simplified by using a self-issue permit at entry points. The bighorn sheep hunt would remain the same, but hunting would be open to small game and deer as well. The refuge would pursue acquisition or lease of the 30 acres adjacent to headquarters for a nature trail.

Backpacking, camping, and horseback riding would be permitted throughout the refuge with restrictions to ensure compatibility. Wood campfires and collecting dead and down wood would be permitted.

Cultural resources would receive increased protection with expansion of law enforcement coverage and increased messages in informational materials. The refuge would continue to work with Border Patrol and others to reduce impacts caused by illegal traffic and enforcement.

IV. Minimize Active Wildlife Management and Emphasize the Ecological Preserve

In this alternative, the refuge would provide maximum protection of resources with little active management in either wilderness or non-wilderness portions of the refuge. Public Use management would be closely regulated to prevent resource impacts. This philosophy believes the best protection can be provided by leaving things in their natural state allowing processes to occur. The goal for bighorn sheep population would be to achieve a level appropriate for the ecosystem without water developments. All tanks and guzzlers would be removed and maintenance would stop on runoff tanks and charcos. Concrete structures would be gradually removed, returning canyons and washes to their natural state. All studies and monitoring would have to be done without motorized access and would be approved only if they were critical to understanding refuge resources. The vegetation around charcos would be left as removal would cause more disturbance. Additional protection of dry riparian habitats would be provided by prohibiting travel by horseback or camping in washes. Pronghorn recovery efforts would be aimed at protecting and restoring additional historic habitat to the east of their current range, reducing military activities, and imposing seasonal public use closures during fawning season. Radio collaring and aerial tracking would be curtailed because of the stress they cause. Additional effort would be placed on lesser-long nosed bats by installing bat gates on the mine shaft to their roost sites to prevent human disturbances. The summit of Child's Mountain would be reclaimed for wildlife use and tours would not be permitted. The refuge would aggressively control exotic species, but limit their actions to the use of hand tools and non-chemical or mechanized means in wilderness. Regional ecosystem planning would best be accomplished by a single administering agency as suggested by the Sonoran Desert National Park proposal.

This alternative calls for eliminating the administrative roadway system which could only be used in emergency situations. Of particular concern are the Mohawk Valley Rd. and Welton Rd. All obsolete roads would be closed and the trailheads obliterated and revegetated. Remote sensors, helicopters, and horses would preclude the need for vehicle use in the wilderness and additional funding would be needed for this purpose. Border Patrol, Customs, and Drug Enforcement Agency (DEA) would be encouraged to conduct all their activities by air.

Permit levels would be established immediately and designated campsites established. Permits would be issued by the refuge only. All public roadways would require 4WD and access to Charlie Bell road would be closed seasonally. Bighorn sheep hunting would continue at reduced permit numbers and without horse or pack animals. There would be no expansion of hunting to other species. An additional alternative would recommend closing the refuge to all hunting. Educational efforts on and off refuge would be increased with the exception that guided tours to Child's Mountain would be discontinued.

Backpacking and camping would be permitted, but campsites would be designated and only gas stoves would be permitted (no charcoal or wood fires). Leave No Trace materials and an orientation video would be required viewing and reading before permits are issued. Horseback riding and pack animals would not be permitted.

In addition to cultural resource protection and education already proposed in alternative 2, this alternative would fund a refuge-wide inventory and survey for cultural sites.

This alternative recognizes the impacts being caused by illegal alien traffic, but places heavier emphasis on curtailing Border Law Enforcement actions restricting their access to administrative roads.

Issue Resolution and Environmental Review

A tentative list of primary issues to be included in the CCP/EIS evolved from the scoping and comments on the CCP and EA. There will be opportunity to comment on any unidentified issues during public scoping including open houses and written comments. The CCP and EIS will discuss the following issues by alternative and the potential environmental effects of each.

(1) Wildlife and Habitat Management Issues

(1.a) Bighorn Sheep Management

Despite 60 years of bighorn sheep management, the refuge does not have a clear goal of what it would see as habitat or population goals for desert bighorn sheep at Cabeza Prieta NWR and the role the refuge plays in the larger ecosystem. Management has followed traditional lines of water development to increase herd size, and in early years, to keep bighorn sheep on the refuge where it was given protection.

The issues with bighorn sheep management centers on vehicular use in the wilderness to maintain and monitor artificial water developments. The Wilderness Act prohibits vehicular use except to meet minimum requirements of managing for wilderness. In order to use vehicles the refuge must demonstrate that artificial water developments are essential to the purpose of the refuge or management of wilderness resources (which does include bighorn sheep).

In February 2000, the refuge invited several bighorn sheep experts to offer their professional opinions regarding sheep management and water developments in arid environments. The results will be used to help develop management objectives.

• What should be the population and habitat goals for bighorn sheep at Cabeza Prieta NWR, given legal restrictions wilderness designation imparts?

• What role do artificial water developments for desert bighorn sheep play in the desert ecosystem? What would be the effect of removing guzzlers and stopping water hauling?

• Are there other means of monitoring and maintaining water developments determined to be necessary (and in the interim) that would not require vehicular use?

• Could needed structures be more “natural” in appearance?

(1.b) Managing Healthy Ecosystems

One of the goals of the System is to manage for diversity of native flora and fauna and contribute to broader ecosystem goals. Many participants felt the refuge doesn't have enough information to manage as a system, others felt that a hands-off approach would best serve this area.

• What inventories need to be conducted to have an understanding of refuge resources (at what frequency and in what manner to comply with wilderness guidelines)?

• Should any current practices be altered to benefit a wider variety of native species at natural levels?

• Should the refuge engage in aggressive elimination of non-native plants and subsequently revegetate areas of the refuge?

• To what degree can the refuge protect unique and rare habitats used by neotropical migrant avian species?

• What research priorities could directly contribute to the refuge's purposes and goals?

• What role should the refuge play in promoting a wider understanding and cooperative management of the Sonoran Desert Ecosystem?

(1.c) Endangered Species Management

The refuge provides protection and habitat for several endangered species. The Sonoran pronghorn receive primary attention because the refuge is located in the heart of their range. Past management has included protection of habitat, removing grazing from the refuge, experimental waters, fencing parts of the boundary to prevent trespass cattle, and study of their movements and habitat use. Recently, additional experimental waters and forage plots have been proposed. These proposals and radio collaring are most controversial. Current refuge water developments targeted for this species appear to not be essential and are poorly located.

• What strategies should the refuge use to protect and assist in recovery of populations of endangered Sonoran pronghorn?

• What partnerships with Mexico could aid in the recovery of Sonoran pronghorn?

• Should we discontinue hauling water and remove guzzlers that are now used by other wildlife?

• Is radio collaring providing valuable information worth the risks of capture shock deaths?

• What other T&E species need strategies leading to protection and better understanding?

(2) Wilderness Management Issues

Cabeza Prieta is the largest refuge wilderness in the lower 48 states. Its national prominence has implications for other wilderness management plans. In Fulfilling the Promise, the Service calls for elevating the status of its wilderness areas and calls for “acknowledging wilderness as a unique resource, the management of which is a specialized discipline.” The plan needs to exemplify the best the Service can do for wilderness.

(2.a) Management Activities

Refuge managers sometimes feel torn between perceived conflicting goals for wildlife and wilderness management. The Wilderness Act does not preclude essential wildlife management activities, but does place a heavier burden of proof of the essential character of activities, requires diligent application of the Minimum Tool Decision Process and its documentation, and calls for restraint in management.

• What management activities are appropriate for Wilderness?

• What rehabilitation projects are needed to restore wilderness resources or character?

• What can the refuge do to improve its Minimum Tool assessment?

(2.b) Administrative Trails Within Wilderness

The Wilderness Act of 1964 prohibits any permanent roads within wilderness and temporary roads may be used only for the minimum requirements for the administration of the area as wilderness and for emergencies involving human health and safety. The refuge and its permittees (AGFD, researchers, volunteers working on projects) drive over 700 miles per year in wilderness (1998) for management purposes. Border Patrol, U.S. Customs, and DEA have legitimate needs and were given special provisions to accomplish their missions in the Arizona Desert Wilderness Act of 1990.

• What roads can be eliminated and what degree of reclamation should occur?

• How can the refuge reduce wilderness driving mileage?

(2.c) Recreation

The Wilderness Act of 1964 provides for public recreation and education. Service policy recognizes sensitive areas may need to be protected from overuse, and allows for regulated use through permit or complete closure (6 RM 8.9A).

• What levels of visitation and methods of controlling use should be employed?

• What are the Limits of Acceptable Change for recreational use in the wilderness?

• What visitation impacts monitoring is needed to determine if unacceptable changes are occurring and help ascertain needed educational remedies or permit levels?

(3) Wildlife Dependent Visitor Services Issues

The Refuge Improvement Act of 1997 identified hunting and fishing, wildlife observation and photography, and education and interpretation as priority uses on refuges when found to be compatible with refuge purposes.

The refuge is open to hunting, wildlife observation and photography, hiking, camping, environmental education, and interpretation. Its size, remoteness, wilderness character, and desert environment offer a unique experience for visitors. All visitors must obtain an entry permit, sign a release form for the military, and restrict vehicle travel to 4WD along two access corridors to the wilderness, and one non-wilderness road. The main travel corridor is along El Camino del Diablo, a state historic trail.

(3.a) Permitting and Access

Permits were established in 1975 at the request of the military to inform the public of hazards they may encounter on areas covered by the military withdrawal. They also serve to establish contact with visitors and ensure that visitors are aware of refuge and wilderness regulations, provide the refuge with visitation data, and inform visitors of hazards that might be encountered in a primitive desert environment. Some participants felt that the process is too complex with different permits required for BMGR and refuge lands, and because the refuge office is not open on weekends when most visitation occurs. Some participants felt there are too many visitors already and feel that any relaxation in the permit system would result in increased resource impacts and limit the refuge's ability to set use limits and track visitation. The refuge and BMGR have since initiated an integrated permit system that has also drawn criticism. Opponents feel that access is not limited enough and the refuge has lost its ability to provide information about the refuge and consideration for its natural resources. Proponents like the convenience of obtaining only one permit for the entire year and the increase in their availability.

• What permit system would facilitate visitor access, provide needed visitation data to the refuge, and educate and inform visitors as to refuge regulations and resources and methods to reduce their impacts?

• What other strategies could help reduce visitor impacts?

(3.b) Motorized Access and Vehicle Restrictions in Non-Wilderness

Visitors and local residents have expressed an interest in additional vehicular access to non-wilderness areas of the refuge which could enhance visitors enjoyment and local tourism.

• What type of access should be provided?

• Is there a non-wilderness route that does not require 4WD and would provide wildlife observation opportunities without negatively impacting bighorn sheep or pronghorn populations?

(3.c) Hunting

The refuge is currently open to desert bighorn sheep hunting for which the State issues 1-7 permits each year. In addition to the actual hunt, the permittees usually take several trips in advance of the season to scout the area with friends. Hunting was established as a priority public use for refuges by the Refuge Improvement Act. This means that when found to be compatible and appropriate for a refuge, it is one of the six activities to be given priority consideration. Some participants would like to see hunting opportunities expanded to deer and small game, and others would like to see all hunting eliminated. Vehicle access is limited to the public corridors. The use of horse/pack animals is permitted by Special Use Permit.

• What type of hunting experience and for which species should be offered at Cabeza Prieta NWR?

(3.d) Environmental Education and Interpretation

The refuge has a Visitor Center located within the town of Ajo, an orientation video program, modest exhibits, an Outdoor Recreation Planner and volunteers who conduct tours and staff the visitor center, cooperates in JUNTOS—a school educational program, and offers monthly natural history programs coordinated by the Cabeza Prieta Natural History Association during the winter season.

• What projects and activities should the refuge initiate to increase understanding and protection of Sonoran Desert resources and the role the Service plays in support of the ecosystem?

(3.e) Other Public Uses: Backpacking, Campfires, Camping, Horseback Riding, Rock Climbing

Other uses that are permitted because they are either related to participation in priority public uses or wilderness appreciation include hiking and backpacking (including camping), and commercial guided tours. The manner in which these activities are allowed was addressed in compatibility determinations completed System-wide in 1994. Horseback riding was found to be compatible with restrictions provided for in a special use permit. Rock climbing was determined to be incompatible but was to be addressed in the CCP to determine if restrictions could make the activities compatible.

• What recreational activities other than the priority uses should be permitted?

• What restrictions should be used (if any) to ensure compatibility and what educational efforts could minimize the impact of these activities?

• What impact monitoring efforts should be initiated?

(4) Cultural Resource Management Issues

• What actions need to be taken to better understand and protect cultural and historical resources on the Cabeza Prieta NWR?

• What Native American interests need to be identified and what cooperative efforts need to be considered and set in place prior to taking action?

(5) Border Law Enforcement and Military Use Issues

Border Patrol, Customs, and DEA were provided special provisions by the Arizona Desert Wilderness Act of 1990 to permit continued enforcement activities. Both the illegal traffickers and the agents performing their duty produce impacts. This CCP will address ways to minimize those impacts.

• To what degree are illegal drug trafficking and illegal immigration contributing to harmful impacts to habitat and wildlife?

• What cooperative efforts can be implemented to reduce Border Patrol and Customs Service impacts on refuge resources?

• What level of refuge law enforcement is needed?

The Refuge was not included in the recent military withdrawal, but language in the act does stipulate continued military use. The act extends the current agreement and provides for amendments to revise low-level training routes, establish new or enlarged buffer zones closed to public use, and to accommodate maintenance, upgrade, replacement, or installation of existing or new ground instrumentation that does not create increased impacts already permitted under the Arizona Desert Wilderness Act of 1990. (Note: since this legislation is newer than the EA process, this issue has not yet been addressed by a management objective).

• What would be the effect of any decrease in flight-level restrictions?

• What buffer zones are needed to assure public safety for critical training?

• What changes to ground instrumentation are being proposed?

The Arizona Desert Wilderness Act of 1990 includes a special provision for continued military operations at Cabeza Prieta NWR. The potential impacts from military activities include the following: visual and noise disturbance, disturbance to wildlife behavior, aircraft collisions with wildlife, and impacts caused by live fire and military debris.

• How can the refuge reduce impacts caused by authorized military operations (tow dart and other debris removal, accident response protocol, entry without permit, expansion of low level flights)?

The environmental review of this project will be conducted in accordance with the requirements of the National Environmental Policy Act of 1969, as amended (42 U.S.C. 4321 et seq.), NEPA Regulations (40 CFR 1500-1508), other appropriate Federal laws and regulations, the National Wildlife Refuge System Improvement Act of 1997, and Service policies and procedures for compliance with those regulations. This notice is being furnished in accordance with Section 1501.7 of the National Environmental Policy Act, to obtain suggestions and information from other agencies, tribes, and the public on the scope of issues to be addressed in the plan and EIS. Comments and participation in this scoping process are solicited.

We estimate that the draft CCP/Environmental Impact Statement will be available to the public in the winter of 2000.

Dated: April 3, 2000.
Geoffrey L. Haskett,
Acting Regional Director, Region 2, Albuquerque, New Mexico.

[FR Doc. 00-9048 Filed 4-13-00; 8:45 am]

BILLING CODE 4310-55-U